DEPARTMENT OF TRANSPORTATION

Federal Highway Administration

Mississippi Division; Notice To Rescind a Notice of Intent To Prepare an Environmental Impact Statement (EIS): Hancock, Harrison, Jackson Counties, MS

AGENCY: Federal Highway Administration (FHWA), DOT.

ACTION: Rescind Notice of Intent to prepare an EIS.

SUMMARY: The FHWA is issuing this notice to advise the public that the Notice of Intent published on April 23, 2003 to prepare an Environmental Impact Statement (EIS) for a proposed relocation study of the CSX Railroad through the six counties of the Mississippi Gulf Coast is being rescinded.

FOR FURTHER INFORMATION CONTACT: Cecil Vick, Environment and Planning Management Team Leader, Federal Highway Administration, Mississippi Division, 666 North Street, Suite 105, Jackson, Mississippi 39202, Telephone: (601) 965-4217.

SUPPLEMENTARY INFORMATION:

Background

The FHWA is rescinding the notice of intent to prepare an Environmental Impact Statement (EIS) on a proposal to study the relocation of the CSX Railroad through the six counties of the Mississippi Gulf Coast—Jackson, Harrison, Hancock, Greene, Stone, and Pearl River Counties with logical termini at the Alabama and Louisiana State lines.

The purpose of the CSX Study was three-fold: Identify the best feasible corridor for relocation of the CSX Railroad in Mississippi; obtain the necessary environmental clearances; and, demonstrate the applicability of remote sensing technologies to environmental analysis for transportation planning projects and decision making. Of paramount importance to this effort was the public participation process.

Federal-aid funds are no longer available for the proposed action.

Andrew H. Hughes,
Division Administrator, Mississippi, Federal Highway Administration, Jackson, Mississippi.

[FR Doc. E7-12492 Filed 6-27-07; 8:45 am]

BILLING CODE 4910-22-P